DEPARTMENT OF COMMERCE

International Trade Administration

[C-122-858]

Certain Softwood Lumber Products From Canada: Final Results of Countervailing Duty Changed Circumstances Review

AGENCY: Enforcement and Compliance, International Trade Administration, Department of Commerce.

SUMMARY: The U.S. Department of Commerce (Commerce) determines that a producer/exporter subject to the countervailing duty (CVD) order on certain softwood lumber from Canada, Interfor Sales & Marketing Ltd. (ISM), is cross-owned with Interfor Corporation, EACOM Timber Corporation, Chaleur Forest Products Inc., and Chaleur Forest Products LP in the context of the CVD order on certain softwood lumber from Canada.

DATES: Applicable March 6, 2025.

FOR FURTHER INFORMATION CONTACT: Elizabeth Talbot Russ, AD/CVD Operations, Office III, Enforcement and Compliance, International Trade Administration, U.S. Department of Commerce, 1401 Constitution Avenue NW, Washington, DC 20230; telephone: (202) 482-5516.

SUPPLEMENTARY INFORMATION:

Background

On January 3, 2018, Commerce published the CVD order on certain softwood lumber from Canada.¹ On January 8, 2025, Commerce published the Preliminary Results of this changed circumstances review (CCR), finding that the following companies are cross-owned entities: ISM, Interfor Corporation, EACOM Timber Corporation, Chaleur Forest Products Inc., and Chaleur Forest Products LP.² In the Preliminary Results, we provided interested parties an opportunity to comment regarding Commerce's preliminary findings. On January 21 and February 4, 2025, the petitioner and ISM submitted comments on the Preliminary Results, respectively.³ The petitioner urged Commerce to maintain the findings of the Preliminary Results in the final results, while ISM took no position on Commerce's preliminary findings.

¹ See Certain Softwood Lumber Products from Canada: Amended Final Affirmative Countervailing Duty Determination and Countervailing Duty Order, 83 FR 347 (January 3, 2018) (Order).

² See Certain Softwood Lumber Products from Canada: Preliminary Results of Changed Circumstances Review, 90 FR 1442 (January 8, 2025) (Preliminary Results), and accompanying Preliminary Decision Memorandum (PDM).

³ See Petitioner's Letter, “Petitioner's Letter in Lieu of Case Brief,” dated January 21, 2025; see also ISM's Letter, “Resubmission of Interfor Sales & Marketing Ltd.'s Comments on the CCR Preliminary Results (Redacted),” dated February 4, 2025.

Scope of the Order

The merchandise covered by this Order is softwood lumber, siding, flooring, and certain other coniferous wood (softwood lumber products). For a complete description of the scope of the Order, see the Preliminary Results PDM.

Final Results of CCR

For the reasons stated in the Preliminary Results, and because we received no comments from interested parties opposing the Preliminary Results, Commerce continues to find that ISM is cross-owned with Interfor Corporation, EACOM Timber Corporation, Chaleur Forest Products Inc., and Chaleur Forest Products LP.⁴ Because our findings remain unchanged from the Preliminary Results, no decision memorandum accompanies this notice. We are adopting the Preliminary Results as the final results of this CCR. See the Preliminary Results PDM for a complete discussion of our findings.

⁴ However, as noted in the Preliminary Results, these cross-ownership findings do not speak to the applicable cash deposit rates of the relevant entities. See Preliminary Results PDM at 7.

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and the terms of an APO is a sanctionable violation.

Notification to Interested Parties

We are issuing this determination and publishing these final results and notice in accordance with sections 751(b)(1) and 777(i)(1) and (2) of the Act, and 19 CFR 351.216(e), 351.221(b), and 351.221(c)(3).

Dated: February 27, 2025.
Christopher Abbott,
Deputy Assistant Secretary for Policy and Negotiations, performing the non-exclusive functions and duties of the Assistant Secretary for Enforcement and Compliance.

[FR Doc. 2025-03615 Filed 3-5-25; 8:45 am]

BILLING CODE 3510-DS-P